ENVIRONMENTAL PROTECTION AGENCY

[FRL-7502-2]

Gulf of Mexico Program Citizens Advisory Committee Meeting

AGENCY: Environmental Protection Agency ( EPA).

ACTION: Notice of meeting.

SUMMARY: Under the Federal Advisory Committee Act (Public Law 92-463), EPA gives notice of a meeting of the Gulf of Mexico Program (GMP) Citizens Advisory Committee (CAC).

DATES: The meeting will be held on Tuesday, June 24, 2003, from 1 p.m. to 5 p.m. and on Thursday, June 26, 2003, from 1 p.m. to 2:30 p.m.

ADDRESSES: The meeting will be held at the Embassy Suites Hotel, 315 Julia Street, New Orleans, LA 70130 (504-525-1993).

FOR FURTHER INFORMATION CONTACT: Gloria D. Car, Designated Federal Officer, Gulf of Mexico Program Office, Mail Code EPA/GMPO, Stennis Space Center, MS 39529-6000 at (228) 688-2421.

SUPPLEMENTARY INFORMATION: Proposed agenda is attached.

The meeting is open to the public.

Dated: May 9, 2003.
Gloria D. Car,
Designated Federal Officer.

Gulf of Mexico Program; Citizens Advisory Committee Meeting

Embassy Suites, New Orleans, Louisiana, June 24-26, 2003

Tuesday, June 24

1-1:30 p.m., Opening Remarks/Introductions, Brian Grantham, Chair and Robert Crowe, Vice-Chair

• Updates on resignations, new members

• Follow-up on Louisiana Resolution

• MC, PRB overview

1:30-1:45 p.m., Expectations for CAC Activities and Measures Discussion, Jim Kachtick, former CAC Chair

1:45-2:30 p.m., GMP Director's Report, Bryon Griffith, GMPO Acting Director

• Update of the Executive Order

2:30-3:15 p.m., Hypoxia Action Plan, Bill Franz, Upper Mississippi River Coordinator, EPA Region 5

3:15-3:30 p.m., Break

3:30-4:15 p.m., Nutrient Enrichment—Lower MS River Sub Basin Committee, Doug Daigle, Mississippi River Basin Alliance

4:15-5 p.m., Pipeline Presentation, Al Taylor, Gulfstream

5 p.m., Wrap-up

Thursday, June 26

1-1:30 p.m., Recap of focus team/committee meetings from previous days

1:30-2 p.m., Marine Debris Presentation, Charles Barr, Ocean Conservancy

2-2:30 p.m. Citizens Advisory Committee Wrap-up

• Discussion and Recommendations

• Collect Questionnaires

2:30 p.m., Adjourn

[FR Doc. 03-12869 Filed 5-21-03; 8:45 am]

BILLING CODE 6560-50-P